DEPARTMENT OF DEFENSE

Office of the Secretary

DoD Guidance Document Website

AGENCY: Office of the Chief Management Officer, Department of Defense (DoD).

ACTION: Notice of availability.

SUMMARY: DoD is announcing the availability of a guidance document website. Active guidance documents currently in effect are accessible through the site.

DATES: The site will be publicly available no later than February 28, 2020.

FOR FURTHER INFORMATION CONTACT: Patricia L. Toppings, Chief, Regulatory and Advisory Committee Division, (571) 372-0485.

SUPPLEMENTARY INFORMATION: On October 10, 2019, the President signed Executive Order (E.O.) 13891, “Promoting the Rule of Law Through Improved Agency Guidance Documents,” to support the principles that the American public should only be subject to binding rules and regulations that are lawfully promulgated and that there must be fair notice of any such obligations. As part of increasing transparency, section 3 of the E.O. requires agencies to publish their guidance documents, and certain information about them, on a single agency website. Accordingly, DoD has established the required guidance website at: https://open.defense.gov/Regulatory-Program/Guidance-Documents/. Existing guidance documents currently in effect are accessible through the site.

Dated: February 14, 2020.
Aaron T. Siegel,
Alternate OSD Federal Register Liaison Officer, Department of Defense.

[FR Doc. 2020-03359 Filed 2-19-20; 8:45 am]

BILLING CODE 5001-06-P